SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1-31, 2016.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and (f) for the time period specified above:

Approvals By Rule Issued Under 18 CFR 806.22(e)

1. Bell & Evans Realty, LLC, Esther's Project, ABR-201601001, Bethel Township, Lebanon County, Pa.; Consumptive Use of Up to 0.180 mgd; Approval Date: January 5, 2016.

2. Schreiber Foods, Inc., Shippensburg Plant, ABR-201601002, Borough of Shippensburg, Cumberland County, Pa.; Consumptive Use of Up to 0.499 mgd; Approval Date: January 13, 2016.

Approvals By Rule Issued Under 18 CFR 806.22(f)

1. Penn Virginia Oil & Gas Corporation, Pad ID: Cady #1, ABR-20091026.R1, Brookfield Township, Tioga County, Pa.; Consumptive Use of Up to 2.0000 mgd; Approval Date: January 4, 2016.

2. Seneca Resources Corporation, Pad ID: DCNR 100 Pad D, ABR-201102002.R1, McIntyre Township, Lycoming County, Pa.; Consumptive Use of Up to 4.0000 mgd; Approval Date: January 4, 2016.

3. Seneca Resources Corporation, Pad ID: DCNR 100 Pad C, ABR-201102007.R1, Cogan House Township, Lycoming County, Pa.; Consumptive Use of Up to 4.0000 mgd; Approval Date: January 4, 2016.

4. SWEPI LP, Pad ID: Dietz 490, ABR-201010030.R1, Richmond Township, Tioga County, Pa.; Consumptive Use of Up to 4.0000 mgd; Approval Date: January 4, 2016.

5. SWEPI LP, Pad ID: Westbrook 487, ABR-201010040.R1, Richmond Township, Tioga County, Pa.; Consumptive Use of Up to 4.0000 mgd; Approval Date: January 4, 2016.

6. SWEPI LP, Pad ID: Zimmer 586, ABR-201010042.R1, Covington Township, Tioga County, Pa.; Consumptive Use of Up to 4.0000 mgd; Approval Date: January 4, 2016.

7. SWEPI LP, Pad ID: Signor 566, ABR-201010054.R1, Charleston Township, Tioga County, Pa.; Consumptive Use of Up to 4.0000 mgd; Approval Date: January 4, 2016.

8. SWEPI LP, Pad ID: Smithgall 293, ABR-201010055.R1, Charleston Township, Tioga County, Pa.; Consumptive Use of Up to 4.0000 mgd; Approval Date: January 4, 2016.

9. SWEPI LP, Pad ID: Guillaume 715, ABR-201011002.R1, Liberty Township, Tioga County, Pa.; Consumptive Use of Up to 4.0000 mgd; Approval Date: January 4, 2016.

10. SWEPI LP, Pad ID: Nestor 551, ABR-201011040.R1, Delmar Township, Tioga County, Pa.; Consumptive Use of Up to 4.0000 mgd; Approval Date: January 4, 2016.

11. SWEPI LP, Pad ID: Torpy & Van Order Inc. 574, ABR-201011043.R1, Covington Township, Tioga County, Pa.; Consumptive Use of Up to 4.0000 mgd; Approval Date: January 4, 2016.

12. SWEPI LP, Pad ID: Signor 583, ABR-201011059.R1, Covington Township, Tioga County, Pa.; Consumptive Use of Up to 4.0000 mgd; Approval Date: January 4, 2016.

13. SWEPI LP, Pad ID: Shaw Trust 500, ABR-201011070.R1, Sullivan Township, Tioga County, Pa.; Consumptive Use of Up to 4.0000 mgd; Approval Date: January 4, 2016.

14. SWEPI LP, Pad ID: Sevem 474, ABR-201011071.R1, Charleston Township, Tioga County, Pa.; Consumptive Use of Up to 4.0000 mgd; Approval Date: January 4, 2016.

15. SWEPI LP, Pad ID: Propheta 288, ABR-201011078.R1, Charleston Township, Tioga County, Pa.; Consumptive Use of Up to 4.0000 mgd; Approval Date: January 4, 2016.

16. SWEPI LP, Pad ID: Brewer 258, ABR-201012013.R1, Jackson Township, Tioga County, Pa.; Consumptive Use of Up to 4.0000 mgd; Approval Date: January 4, 2016.

17. SWEPI LP, Pad ID: Crittenden 593, ABR-201012016.R1, Richmond Township, Tioga County, Pa.; Consumptive Use of Up to 4.0000 mgd; Approval Date: January 4, 2016.

18. SWEPI LP, Pad ID: Swingle 591, ABR-201012018.R1, Richmond Township, Tioga County, Pa.; Consumptive Use of Up to 4.0000 mgd; Approval Date: January 4, 2016.

19. SWEPI LP, Pad ID: I G Coveney Revocable LVG Trust 282, ABR-201012032.R1, Richmond Township, Tioga County, Pa.; Consumptive Use of Up to 4.0000 mgd; Approval Date: January 4, 2016.

20. Anadarko E&P Onshore LLC, Pad ID: Eugene P Nelson Pad A, ABR-201103036.R1, Cascade Township, Lycoming County, Pa.; Consumptive Use of Up to 4.0000 mgd; Approval Date: January 12, 2016.

21. EOG Resources, Incorporated, Pad ID: SGL 90C Pad, ABR-201011024.R1, Lawrence Township, Clearfield County, Pa.; Consumptive Use of Up to 4.9990 mgd; Approval Date: January 12, 2016.

22. SWN Production Company, LLC, Pad ID: Broughton, ABR-201012001.R1, Morris Township, Tioga County, Pa.; Consumptive Use of Up to 7.5000 mgd; Approval Date: January 12, 2016.

23. SWEPI LP, Pad ID: Neal 815, ABR-201011058.R1, Chatham Township, Tioga County, Pa.; Consumptive Use of Up to 4.0000 mgd; Approval Date: January 12, 2016.

24. SWEPI LP, Pad ID: Groff 720, ABR-201012017.R1, Canton Township, Bradford County, Pa.; Consumptive Use of Up to 4.0000 mgd; Approval Date: January 12, 2016.

25. SWEPI LP, Pad ID: Vanvliet 614, ABR-201012044.R1, Delmar Township, Tioga County, Pa.; Consumptive Use of Up to 4.0000 mgd; Approval Date: January 12, 2016.

26. SWEPI LP, Pad ID: Wilson 283, ABR-201012048.R1, Charleston Township, Tioga County, Pa.; Consumptive Use of Up to 4.0000 mgd; Approval Date: January 12, 2016.

27. SWEPI LP, Pad ID: Buckwalter 429, ABR-201012049.R1, Delmar Township, Tioga County, Pa.; Consumptive Use of Up to 4.0000 mgd; Approval Date: January 12, 2016.

28. SWEPI LP, Pad ID: Hitesman 580, ABR-201012052.R1, Covington Township, Tioga County, Pa.; Consumptive Use of Up to 4.0000 mgd; Approval Date: January 12, 2016.

29. Chesapeake Appalachia, LLC, Pad ID: Ramblinrose, ABR-201105003.R1, Tuscarora Township, Bradford County, Pa.; Consumptive Use of Up to 7.5000 mgd; Approval Date: January 21, 2016.

30. Chesapeake Appalachia, LLC, Pad ID: LRJ, ABR-201105011.R1, Rush Township, Susquehanna County, Pa.; Consumptive Use of Up to 7.5000 mgd; Approval Date: January 21, 2016.

31. Chesapeake Appalachia, LLC, Pad ID: Packard, ABR-201105022.R1, Sheshequin Township, Bradford County, Pa.; Consumptive Use of Up to 7.5000 mgd; Approval Date: January 21, 2016.

32. Chesapeake Appalachia, LLC, Pad ID: Lomison Inc., ABR-201105023.R1, Burlington Township, Bradford County, Pa.; Consumptive Use of Up to 7.5000 mgd; Approval Date: January 21, 2016.

33. Chesapeake Appalachia, LLC, Pad ID: Karp, ABR-201105027.R1, Lemon Township, Wyoming County, Pa.; Consumptive Use of Up to 7.5000 mgd; Approval Date: January 21, 2016.

34. Chief Oil & Gas, LLC, Pad ID: Taylor Drilling Pad #1, ABR-201104024.R1, Lenox Township, Susquehanna County, Pa.; Consumptive Use of Up to 2.0000 mgd; Approval Date: January 21, 2016.

35. Chief Oil & Gas, LLC, Pad ID: Polovitch West Drilling Pad #1, ABR-201104025.R1, Nicholson Township, Wyoming County, Pa.; Consumptive Use of Up to 2.0000 mgd; Approval Date: January 21, 2016.

36. Seneca Resources Corporation, Pad ID: Covington Pad M, ABR-201102031.R1, Covington Township, Tioga County, Pa.; Consumptive Use of Up to 4.0000 mgd; Approval Date: January 21, 2016.

37. Talisman Energy USA Inc., Pad ID: 05 202 Slovak M, ABR-201012031.R1, Windham Township, Bradford County, Pa.; Consumptive Use of Up to 6.0000 mgd; Approval Date: January 21, 2016.

38. Tenaska Resources, LLC, Pad ID: Brookfield #1 Pad, ABR-201601003, Brookfield Township, Tioga County, Pa.; Consumptive Use of Up to 1.0000 mgd; Approval Date: January 22, 2016.

39. Anadarko E&P Onshore LLC, Pad ID: Cynthia M. Knispel Pad A, ABR-201103038.R1, Cogan House Township, Lycoming County, Pa.; Consumptive Use of Up to 4.0000 mgd; Approval Date: January 22, 2016.

40. Chesapeake Appalachia, LLC, Pad ID: Hulslander, ABR-201104021.R1, Smithfield Township, Bradford County, Pa.; Consumptive Use of Up to 7.5000 mgd; Approval Date: January 21, 2016.

41. Chesapeake Appalachia, LLC, Pad ID: Kingsley, ABR-201104029.R1, Smithfield Township, Bradford County, Pa.; Consumptive Use of Up to 7.5000 mgd; Approval Date: January 22, 2016.

42. Chesapeake Appalachia, LLC, Pad ID: Moody, ABR-201104027.R1, Springfield Township, Bradford County, Pa.; Consumptive Use of Up to 7.5000 mgd; Approval Date: January 22, 2016.

43. Chesapeake Appalachia, LLC, Pad ID: Sensinger, ABR-201104002.R1, Franklin Township, Bradford County, Pa.; Consumptive Use of Up to 7.5000 mgd; Approval Date: January 22, 2016.

44. Chief Oil & Gas, LLC, Pad ID: Jerauld Drilling Pad #1, ABR-201105005.R1, Lenox Township, Susquehanna County, Pa.; Consumptive Use of Up to 2.0000 mgd; Approval Date: January 22, 2016.

45. SWEPI LP, Pad ID: Neal 375, ABR-201012053.R1, Union Township, Tioga County, Pa.; Consumptive Use of Up to 4.0000 mgd; Approval Date: January 22, 2016.

46. SWEPI LP, Pad ID: Yourgalite 1119, ABR-201012056.R1, Farmington Township, Tioga County, Pa.; Consumptive Use of Up to 4.0000 mgd; Approval Date: January 22, 2016.

47. SWEPI LP, Pad ID: Marshall Brothers Inc. 731, ABR-201012057.R1, Jackson Township, Lycoming County, Pa.; Consumptive Use of Up to 4.0000 mgd; Approval Date: January 22, 2016.

48. Talisman Energy USA Inc., Pad ID: 03 052 Watkins, ABR-201011048.R1, Columbia Township, Bradford County, Pa.; Consumptive Use of Up to 6.0000 mgd; Approval Date: January 22, 2016.

49. Talisman Energy USA Inc., Pad ID: 02 015 DCNR 587, ABR-201012012.R1, Ward Township, Tioga County, Pa.; Consumptive Use of Up to 6.0000 mgd; Approval Date: January 22, 2016.

50. Cabot Oil & Gas Corporation, Pad ID: LopatofskyJ P1, ABR-201105015.R1, Springville Township, Susquehanna County, Pa.; Consumptive Use of Up to 3.5750 mgd; Approval Date: January 29, 2016.

51. SWN Production Company, LLC, Pad ID: TI-32 STAFFORD PAD, ABR-201601004, Morris Township, Tioga County, Pa.; Consumptive Use of Up to 4.9990 mgd; Approval Date: January 29, 2016.

52. SWN Production Company, LLC, Pad ID: RU-74 TRETTER PAD, ABR-201601005, Great Bend Township, Susquehanna County, Pa.; Consumptive Use of Up to 4.9990 mgd; Approval Date: January 29, 2016.

53. SWN Production Company, LLC, Pad ID: TI—Kohler Pad, ABR-201601006, Liberty Township, Tioga County, Pa.; Consumptive Use of Up to 4.9990 mgd; Approval Date: January 29, 2016.

Authority: Pub. L. 91-575, 84 Stat. 1509 et seq., 18 CFR parts 806, 807, and 808.

Dated: February 10, 2016.
Stephanie L. Richardson,
Secretary to the Commission.

[FR Doc. 2016-03051 Filed 2-12-16; 8:45 am]

BILLING CODE 7040-01-P